DEPARTMENT OF JUSTICE

Antitrust Division

Notice Pursuant to the National Cooperative Research and Production Act of 1993—National Armaments Consortium

Notice is hereby given that, on March 15, 2016, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Akita Innovations, LLC, North Billerica, MA; American Engineering & Manufacturing, Inc., Elyria, OH; American Rheinmetall Munitions, Inc., Stafford, VA; Aria Microwave Systems, Inc., Teaneck, NJ; BEAM Engineering for Advanced Measurements, Orlando, FL; Bradshaw Engineering and Technical Services, LLC, Union Grove, AL; C-2 Innovations, Inc., Stow, MA; CIRTEMO, LLC, Cayce, SC; Cummings Aerospace, Inc., Huntsville, AL; Elbit Systems of America, LLC, Fort Worth, TX; Electronics & Manufacturing Co., LLC, Columbia, MO; Elmet Technologies, LLC, Lewiston, ME; Evigia Systems, Inc., Ann Arbor, MI; Fairlead Precision Manufacturing & Integration, LLC, Portsmouth, VA; Fiocchi of America, Ozark, MO; GECO, Inc., Mesa, AZ; General Dynamics C4 Systems, Inc., Scottsdale, AZ; Hardigg Industries, Inc., South Deerfield, MA; Integrated Global Insights, LLC, Burke, VA; Integration Innovation, Inc. (i3), Huntsville, AL; Kratos Defense & Rocket Support Services, Inc., King George, VA; L-3 Electron Devices, Williamsport, PA; Lancer Systems, LP, Quakertown, PA; Leigh Aerosystems Corporation, Carlsbad, CA; Logikos, Inc., Fort Wayne, IN; Magnesium Elektron North American, Inc., Madison, IL; Materion Brush, Inc., Elmore, OH; MBDA Incorporated, Arlington, VA; Molex, LLC, Lisle, IL; OMNI Consulting Solutions, LLC, El Segundo, CA; Orion Munitions Development, LLC, Gladstone, MO; pH Matter, LLC, Columbus, OH; PolyPlus Battery Company, Berkeley, CA; Polysciences, Inc., Warrington, PA; Pyrolink International Inc., Alexandria, VA; Quantum Dimension, Inc., Huntington Beach, CA; Radiation Monitoring Devices, Inc., Watertown, PA; Saab Defense and Security USA, LLC, East Syracuse, NY; SimVentions, Inc., Fredericksburg, VA; Southern Research Institute, Birmingham, AL; STS Technologies, LLC, Mahwah, NJ; The Regents of the University of California, Irvine, Irvine, CA; Vadum, Inc., Raleigh, NC; ViaSat, Inc., Gilbert, AZ; and Wilcox Industries Corp, Newintong, PA, have been added as parties to this venture.

Also, Applied Thin Films, Inc., Skokie, IL; Fluorochem, Inc., Azusa, CA; Prime Photonics, LC, Blacksburg, VA; Safety Consulting Engineers, Schauraburg, IL; Saint-Gobain Ceramics & Plastics, Inc., Milford, NH; and Soligie, Inc., Savage, MN, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on November 10, 2015. A notice was published in the Federal Register pursuant to Section 6(b) of the Act on December 23, 2015 (80 FR 79931).

Patricia A. Brink,
Director of Civil Enforcement, Antitrust Division.

[FR Doc. 2016-08577 Filed 4-13-16; 8:45 am]

BILLING CODE P